DEPARTMENT OF TRANSPORTATION

Federal Aviation Administration

14 CFR Part 39

[Docket No. FAA-2011-1128; Directorate Identifier 2011-CE-031-AD]

RIN 2120-AA64

Airworthiness Directives; CPAC, Inc. Airplanes

AGENCY: Federal Aviation Administration (FAA), DOT.

ACTION: Notice of proposed rulemaking (NPRM).

SUMMARY: We propose to supersede an existing airworthiness directive (AD) that applies to all CPAC, Inc. (type certificate formerly held by Commander Aircraft Corporation, Gulfstream Aerospace Corporation, and Rockwell International) Models 112, 112B, 112TC, 112TCA, 114, 114A, 114B, and 114TC airplanes. The existing AD currently requires a one-time inspection of the elevator spar for cracks and, if any crack is found, either replace with a serviceable elevator spar that is found free of cracks or repair/modify the elevator spar with an FAA-approved method. That AD also requires reporting to the FAA the results of the inspection. Since we issued that AD, using the data collected through the reporting requirement, we have determined there is a need for continued inspections. This proposed AD would require repetitive inspections of the elevator spar for cracks and, if any crack is found, either replace with a serviceable elevator spar that is free of any cracks and/or corrosion or repair/modify the elevator spar with an FAA-approved procedure. We are proposing this AD to correct the unsafe condition on these products.

DATES: We must receive comments on this proposed AD by December 1, 2011.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: Deliver to Mail address above between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: T.N. Baktha, Senior Aerospace Engineer, FAA, Wichita Aircraft Certification Office, 1801 Airport Road, Room 100, Wichita, Kansas 67209; phone: (316) 946-4155; fax: (316) 946-4107; e-mail: t.n.baktha@faa.gov.

SUPPLEMENTARY INFORMATION:

Comments Invited

We invite you to send any written relevant data, views, or arguments about this proposed AD. Send your comments to an address listed under the ADDRESSES section. Include “Docket No. FAA-2011-1128; Directorate Identifier 2011-CE-031-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On March 28, 2011, we issued AD 2011-07-13, amendment 39-16650 (76 FR 18376, April 4, 2011), for all CPAC, Inc. (type certificate formerly held by Commander Aircraft Corporation, Gulfstream Aerospace Corporation, and Rockwell International) Models 112, 112B, 112TC, 112TCA, 114, 114A, 114B, and 114TC airplanes. That AD requires a one-time inspection of the elevator spar for cracks and, if any crack is found, either replace with a serviceable elevator spar that is found free of cracks or repair/modify the elevator spar with an FAA-approved method. That AD also requires reporting to the FAA the results of the inspection. That AD was prompted by reports of a total of nine elevator spar cracks across seven of the affected airplanes, including a crack of 2.35 inches just below the outboard hinge of the right-hand elevator. We issued that AD to prevent structural failure of the elevator spar due to such cracking, which could result in separation of the elevator from the airplane with consequent loss of control.

Actions Since Existing AD Was Issued

We considered AD 2011-07-13, amendment 39-16650 (76 FR 18376, April 4, 2011), an interim action while we evaluated the data submitted from the reports of the one-time inspection to determine if repetitive inspections are necessary and if a terminating action could be implemented.

Since we issued AD 2011-07-13, amendment 39-16650 (76 FR 18376, April 4, 2011), using the data collected through the reporting requirement, we have determined that there is a need for continued repetitive inspections.

The data indicated that approximately 25 percent of the airplanes inspected have cracked elevator spars, with Model 114 airplanes indicating almost 46 percent of the airplanes having cracks. There does not appear to be a clear correlation between the discovery of a crack and hours time-in-service (TIS) on the airplane.

Therefore, the data indicate that cracks are very prevalent and could appear on any airplane regardless of the hours TIS. Thus, we were unable to determine terminating action to address the unsafe condition. The continued repetitive inspections will help us understand the root cause of the cracking and develop a terminating action.

Relevant Service Information

We have included in this proposed AD procedures for removing the elevator and inspecting the forward and aft sides of the right-hand and left-hand elevator spar web at and around the elevator outboard hinge bracket area.

We have approved an alternative method of compliance (AMOC) to AD 2011-07-13 that offers an alternative method of inspection. You may find this AMOC at regulations.gov, Docket No. FAA-2011-0302 and Docket No. FAA-2011-1128.

FAA's Determination

We are proposing this AD because we evaluated all the relevant information and determined the unsafe condition described previously is likely to exist or develop in other products of the same type design.

Proposed AD Requirements

This proposed AD would retain all of the requirements of AD 2011-07-13, amendment 39-16650 (76 FR 18376, April 4, 2011), and make the one-time inspection repetitive.

Interim Action

We consider this proposed AD interim action. We continue to evaluate the reported data and repair procedures to determine a possible terminating action. Based on this determination, we may initiate further rulemaking action if needed to address the unsafe condition identified in this proposed AD.

Costs of Compliance

We estimate that this proposed AD affects 773 airplanes of U.S. registry.

We estimate the following costs to comply with this proposed AD:

Estimated Costs
Action | Labor cost | Parts cost | Cost per product | Cost on U.S. operators
Inspection of the elevator spar | 8 work-hours × $85 per hour = $680 | N/A | $680 | $525,640

Currently, there is no FAA-approved repair/modification for a cracked elevator spar. Further flight is prohibited until the repair/modification is submitted to the FAA and FAA-approved. Therefore, at this time, the FAA has no way of determining the costs associated with the repair/modification of cracks found in the elevator spar.

We estimate the following costs to do any replacement that would be required based on the results of the proposed inspection. We have no way of determining the number of aircraft that might need this replacement:

On-Condition Costs
Action | Labor cost per elevator spar | Parts cost per elevator spar | Cost per product per elevator spar
Replace cracked elevator spar with a serviceable elevator spar | Up to 16 work-hours × $85 per hour = $1,360 | May range from $100 to $1,000 | May range from $1,460 to $2,360.
Replace cracked elevator spar with a new elevator spar | Up to 16 work-hours × $85 per hour = $1,360 | $1,250 | $2,610.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2011-07-13, amendment 39-16650 (76 FR 18376, April 4, 2011), and adding the following new AD:

CPAC, Inc. (Type Certificate Formerly Held by Commander Aircraft Corporation, Gulfstream Aerospace Corporation, and Rockwell International): Docket No. FAA-2011-1128; Directorate Identifier 2011-CE-031-AD.

(a) Comments Due Date

The FAA must receive comments on this AD action by December 1, 2011.

(b) Affected ADs

This AD supersedes AD 2011-07-13, amendment 39-16650 (76 FR 18376, April 4, 2011).

(c) Applicability

This AD applies to CPAC, Inc. (type certificate formerly held by Commander Aircraft Corporation, Gulfstream Aerospace Corporation, and Rockwell International) Models 112, 112B, 112TC, 112TCA, 114, 114A, 114B, and 114TC airplanes, all serial numbers, certificated in any category. Type Certificate No. A12SO does not include Models 112A and 115. The Model 112A is a Rockwell “marketing name” for the Model 112. The Model 115 is a Rockwell “marketing name” for the Model 114. Since they are type-certificated as Model 112 and Model 114, this AD is applicable to the Models 112A and 115.

(d) Subject

Joint Aircraft System Component (JASC)/Air Transport Association (ATA) of America Code 55, Stabilizers.

(e) Unsafe Condition

This AD was prompted by reports of a total of nine elevator spar cracks across seven of the affected airplanes, including a crack of 2.35 inches just below the outboard hinge of the right-hand elevator. We are issuing this AD to prevent structural failure of the elevator spar due to such cracking, which could result in separation of the elevator from the airplane with consequent loss of control.

(f) Compliance

Comply with this AD within the compliance times specified, unless already done.

(g) Inspection Requirement Retained From AD 2011-07-13, Amendment 39-16650 (76 FR 18376, April 4, 2011)

Within the next 5 hours time-in-service (TIS) after April 4, 2011 (the effective date retained from AD 2011-07-13), visually inspect the left-hand (LH) and right-hand (RH) elevator spar behind and around the outboard hinge bracket on the elevator spar for cracks. Do the inspection following the procedures specified in paragraph (j) of this AD or by FAA-approved procedures for the inspection in an alternative method of compliance (AMOC) to AD 2011-07-13. You may find this AMOC at regulations.gov, Docket No. FAA-2011-0302 and Docket No. FAA-2011-1128. If cracks are found during this inspection, take the necessary corrective actions specified in paragraph (k) of this AD.

(h) Reporting Requirement Retained From AD 2011-07-13, Amendment 39-16650 (76 FR 18376, April 4, 2011)

Report the results of the inspection required in paragraph (g) of this AD to the FAA, Wichita Aircraft Certification Office (ACO), Attn: T.N. Baktha, Senior Aerospace Engineer, 1801 Airport Road, Room 100; Wichita, Kansas 67209; phone: (316) 946-4155; fax: (316) 946-4107; e-mail: t.n.baktha@faa.gov. Include the following information:

(1) Airplane model and serial number.

(2) Hours TIS at time of inspection.

(3) Annotate any cracking found, including the exact location and length of any cracks.

(4) Any installations, repairs, modifications, etc. that have been done on your airplane in the elevator spar area or that could have affected the elevator spar.

(5) Type of operation primarily flown in.

(i) Repetitive Inspection Requirement

As a result of the inspection required in AD 2011-07-13, amendment 39-16650 (76 FR 18376, April 4, 2011), or the inspection required in paragraph (g) of this AD, if the elevator spar was:

(1) Replaced with a new elevator spar, within the next 300 hours TIS after the replacement visually inspect the elevator spar behind the outboard hinge bracket and surrounding area for cracks. Repetitively inspect thereafter at intervals not to exceed 12 months or 150 hours TIS, whichever occurs first. Do the inspection following the procedures specified in paragraph (j) of this AD or by FAA-approved procedures for the inspection in an AMOC to AD 2011-07-13. You may find this AMOC at regulations.gov, Docket No. FAA-2011-0302 and Docket No. FAA-2011-1128.

(2) Replaced with a serviceable elevator spar (one that was in service before and had no cracks and/or corrosion), within the next 150 hours TIS after the replacement, visually inspect the elevator spar behind the outboard hinge bracket and surrounding area for cracks. Repetitively inspect thereafter at intervals not to exceed 12 months or 150 hours TIS, whichever occurs first. Do the inspection following the procedures specified in paragraph (j) of this AD or by FAA-approved procedures for the inspection in an AMOC to AD 2011-07-13. You may find this AMOC at regulations.gov, Docket No. FAA-2011-0302 and Docket No. FAA-2011-1128.

(3) Found free of cracks, within the next 150 hours TIS after the inspection, visually inspect the elevator spar behind the outboard hinge bracket and surrounding area for cracks. Repetitively inspect thereafter at intervals not to exceed 12 months or 150 hours TIS, whichever occurs first. Do the inspection following the procedures specified in paragraph (j) of this AD or by FAA-approved procedures for the inspection in an AMOC to AD 2011-07-13. You may find this AMOC at regulations.gov, Docket No. FAA-2011-0302 and Docket No. FAA-2011-1128.

(j) Inspection Procedures

(1) Disconnect the elevator trim pushrod at the trim tab.

(2) Remove the hinge bolts at the horizontal stabilizer points.

(3) Remove six screws and two bolts at the inboard end of the elevator and remove the elevator.

(4) Remove all fasteners common to the elevator outboard aft end rib, part number (P/N) 44330, and elevator skin, P/N 44323.

(5) Remove the remaining two fasteners common to the elevator outboard aft end rib (P/N 44330) and the elevator spar, P/N 44211.

(6) Remove the elevator aft end rib, P/N 44330, to gain access to the aft side of the elevator spar.

(7) Remove the four bolts, washers, and nuts that secure the outboard elevator hinge bracket, P/N 44285.

(8) Remove elevator hinge bracket, P/N 44285, from the elevator spar.

(9) Clean in and around the location of the elevator outboard hinge bracket, outboard elevator hinge, and the outboard elevator hinge bracket (as applicable) on the elevator spar and visually inspect for cracks. Use a 10X magnifier to facilitate the detection of any crack.

(k) Corrective Actions

(1) If cracks are found during any inspection required in paragraphs (g), (i)(1), (i)(2), or (i)(3) of this AD, before further flight, either replace the elevator spar with a new spar or a serviceable spar that is found free of cracks and/or corrosion or repair/modify the elevator spar following a procedure approved for this AD by the FAA, Wichita ACO. After taking corrective action, continue with the repetitive inspections required in paragraphs (i)(1), (i)(2), or (i)(3);

(2) Reassemble the elevator assembly, rebalance the elevator, and reinstall on the airplane following standard repair practices. Ensure elevator rigging is within tolerance, and that the system operates with ease, smoothness, and positiveness appropriate to its function; and

(3) After taking corrective action, continue with the repetitive inspections required in paragraphs (i)(1), (i)(2), and (i)(3) of this AD.

(l) Special Flight Permit

Special flight permits are permitted with the following limitations when cracks are found in the elevator spar: daytime visual flight rules (VFR) only, restricted to crew, calm weather, reduced speed not to exceed 111 knots calibrated air speed (KCAS), and not to exceed 5 flight hours.

(m) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave., SW., Washington, DC 20591, Attn: Information Collection Clearance Officer, AES-200.

(n) AMOCs

(1) The Manager, Wichita ACO, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(3) AMOCs approved previously in accordance with AD 2011-07-13, amendment 39-16650 (76 FR 18376, April 4, 2011), are approved as AMOCs for the corresponding requirements in paragraph (j) of this AD.

(o) Related Information

For more information about this AD, contact T.N. Baktha, Senior Aerospace Engineer, Wichita ACO, FAA, 1801 Airport Road, Room 100, Wichita, Kansas 67209; phone: (316) 946-4186; fax: (316) 946-4107; e-mail: t.n.baktha@faa.gov.

Issued in Kansas City, Missouri, on October 11, 2011.
Earl Lawrence,
Manager, Small Airplane Directorate, Aircraft Certification Service.

[FR Doc. 2011-26806 Filed 10-14-11; 8:45 am]

BILLING CODE 4910-13-P